DEPARTMENT OF TRANSPORTATION

Federal Highway Administration

23 CFR Part 635

[Docket No. FHWA-2023-0037]

RIN 2125-AG13

Buy America Requirements for Manufactured Products

AGENCY: Federal Highway Administration (FHWA), U.S. Department of Transportation.

ACTION: Final rule; delay of effective date.

SUMMARY: This document delays the effective date of the final rule, published on January 14, 2025, titled Buy America Requirements for Manufactured Products.

DATES: This effective date of the rule amending 23 CFR part 635 published on January 14, 2025, is delayed until March 20, 2025.

FOR FURTHER INFORMATION CONTACT: For questions about this final rule, please contact Mr. Brian Hogge, FHWA Office of Infrastructure, 202-366-1562, or via email at Brian.Hogge@dot.gov. For legal questions, please contact Mr. David Serody, FHWA Office of Chief Counsel, 202-366-4241, or via email at David.Serody@dot.gov. Office hours for FHWA are from 8:00 a.m. to 4:30 p.m., eastern time (E.T.), Monday through Friday, except Federal holidays.

Electronic Access and Filing

This document, the notice of proposed rulemaking, all comments received, the final rule, and all supporting material may be viewed online at www.regulations.gov using the docket number listed above. Electronic retrieval assistance and guidelines are available on the website. It is available 24 hours each day, 365 days each year. An electronic copy of this document may also be downloaded from the Office of Federal Register's website at www.federalregister.gov and the U.S. Government Publishing Office's website at www.govinfo.gov.

SUPPLEMENTARY INFORMATION: In accordance with the memorandum of January 20, 2025, from the President to executive departments and agencies, entitled “Regulatory Freeze Pending Review” (90 FR 8249; Jan. 28, 2025), this action temporarily delays the effective date of the rule titled Buy America Requirements for Manufactured Products published in the Federal Register on January 14, 2025, at 90 FR 2932.

This action is exempt from notice and comment under 5 U.S.C. 553 and is effective immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Issued in Washington, DC, under authority delegated in 49 CFR 1.85.
James O. Payne, III,
Chief Counsel, Federal Highway Administration.

[FR Doc. 2025-03402 Filed 3-3-25; 8:45 am]

BILLING CODE 4910-22-P